DEPARTMENT OF THE INTERIOR

Bureau of Land Management

43 CFR Part 3830

[Docket No. BLM-2025-0204; A2407-014-004-065516; #O2412-014-004-047181.1]

RIN 1004-AF48

Revisions to Regulations Regarding Locating, Recording, and Maintaining Mining Claims or Sites—Failure To Comply

AGENCY: Bureau of Land Management, Interior.

ACTION: Direct final rule; request for comments.

SUMMARY: This direct final rule (DFR) revises regulations containing general provisions related to failure to comply with the regulations governing requirements for locating, recording, and maintaining mining claims or sites under the Mining Law of 1872, and the Federal Land Policy and Management Act of 1976 (FLPMA). This DFR updates terminology, clarifies language, and removes obsolete provisions.

DATES: The final rule is effective November 3, 2025, unless significant adverse comments are received by October 2, 2025. If significant adverse comments are received, notice will be published in the Federal Register before the effective date either withdrawing the rule or issuing a new final rule that responds to any significant adverse comments.

ADDRESSES: You may submit comments by one of the following methods:

Federal eRulemaking Portal: https://www.regulations.gov. In the Search box, enter the Docket Number “BLM-2025-0204” and click the “Search” button. Follow the instructions at this website.

• Mail, personal, or messenger delivery: U.S. Department of the Interior (Department), Director (630), Bureau of Land Management (BLM), 1849 C St. NW, Room 5646, Washington, DC 20240, Attention: 1004-AF48.

FOR FURTHER INFORMATION CONTACT: Kirk Rentmeister, National Mining Law Program Lead, telephone: 775-435-5514; email: krentmei@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Department's regulations governing failure to comply with regulations implementing the requirements of the Mining Law, 30 U.S.C. 22-54, and FLPMA, 43 U.S.C. 1744, are contained in 43 CFR part 3830, subpart E, “Failure To Comply With These Regulations.” Section 3830.91 describes what happens when a mining claimant fails to timely comply with the requirements for locating, recording, and maintaining mining claims, millsites, and tunnel sites. Section 3830.92 provides special provisions for oil placer mining claims. Section 3830.93 describes when filing defects are curable. Section 3830.94 describes how to cure defects in filing. Sections 3830.95, 3830.96, and 3830.97 address what happens if only a partial payment is made for newly located mining claims, previously recorded mining claims, and notices of intent to locate mining claims and sites on Stockraising Homestead Act lands, respectively.

The Department notes that several of the sections in subpart E contain the term “service charge,” rather than the current term of “processing fee.” Because the “service charge” terminology is obsolete, the Department is revising these regulations to conform to current terminology and simplify the remaining wording. The Department has similarly determined that the heading of § 3830.96 should be revised due to obsolescence resulting from the fact that there are no longer any oil shale placer mining claims in the BLM's records. The references to “oil shale fees” in the heading and paragraphs (a) and (b) of this regulation will be removed for the same reason.

The DFR also corrects inadvertent omissions and erroneous information, such as an omission of a cross reference to subpart 3715 from § 3830.91(c)(1); an erroneous date in § 3830.92(a)(3); an incorrect cross reference in § 3830.93(a); an omission of the timeliness requirement and the type of fee waiver described in paragraphs (b) and (c) of § 3830.94; and an omission of a reference to tunnel sites in § 3830.97. Additionally, the DFR also adds cross-references for the convenience of the public, such as in §§ 3830.92(b), 3830.93(b), 3830.96, and 3830.97.

Lastly, the DFR makes various changes necessary to clarify and conform the regulations in subpart E to subsequently promulgated regulations and to the Department's current interpretations regarding the filing requirements related to locating, recording, and maintaining mining claims and sites. For example, the changes to §§ 3830.95 and 3830.96 clarify that the BLM does not consider a document to be “filed” for purposes of complying with any statutory or regulatory deadline if the document is not accompanied by the proper processing fee. In making these changes to §§ 3830.95 and 3830.96, the DFR brings subpart E into conformance with the Department's cost recovery regulations at 43 CFR 3000.10 that were promulgated in 2005 and eliminates any confusion about whether failure to pay insufficient processing fees may be “cured” if the deadline for filing the document has passed. Additionally, the changes to § 3830.96 clarify how the partial payment regulation will be applied in years when there is a maintenance fee increase, and specify that underpayments remaining after the BLM applies the procedures at § 3835.23 are not subject to § 3830.96.

The Department has determined that these reasons, independently and alone, justify revision of 43 CFR part 3830, subpart E. The Department has no interest in maintaining regulations that are obsolete or unclear.

The Department is issuing this rule as a direct final rule. Although the Administrative Procedure Act (APA, 5 U.S.C. 551 through 559) generally requires agencies to engage in notice and comment rulemaking, section 553 of the APA provides an exception when the agency “for good cause finds” that notice and comment are “impracticable, unnecessary, or contrary to the public interest.” Id. 553(b)(B). The Department has determined that notice and comment are unnecessary because this rule is noncontroversial; of a minor, technical nature; involves little agency discretion; and is unlikely to receive any significant adverse comments. Significant adverse comments are those that oppose the revision of the rule and raise, alone or in combination, (1) reasons why the revision of the rule is inappropriate, including challenges to the revision's underlying premise; or (2) serious unintended consequences of the revision. A comment recommending an addition to the rule will not be considered significant and adverse unless the comment explains how this direct final rule would be ineffective without the addition.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely updates terminology, clarifies language, and removes obsolete provisions. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule updates terminology, clarifies language, and removes obsolete provisions; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This direct final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department strives to strengthen its government-to-government relationship with Indian tribes through a commitment to consultation with Tribes and recognition of their right to self-governance and Tribal sovereignty. The Department evaluated this direct final rule under E.O. 13175 and the Department's consultation policies and determined that it has no substantial, direct effects on federally recognized Indian tribes and that consultation under the Department's Tribal consultation policies is not required. The rule merely updates terminology, clarifies language, and removes obsolete provisions.

Paperwork Reduction Act

This rule does not impose any new or revised information collection requirements under the Paperwork Reduction Act (44 U.S.C. 3501 et seq.), and a submission to the OMB under the Paperwork Reduction Act is not required.

National Environmental Policy Act

This direct final rule does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This direct final rule is not a significant energy action as defined in E.O. 13211. Therefore, a statement of energy effects is not required.

List of Subjects in 43 CFR Part 3830

Mineral royalties, Mines, Public lands—mineral resources, Reporting and recordkeeping requirements.

Adam G. Suess,
Acting Assistant Secretary, Land and Minerals Management.

For the reasons stated in the preamble, the Bureau of Land Management amends 43 CFR part 3830 as follows:

PART 3830—LOCATING, RECORDING, AND MAINTAINING MINING CLAIMS OR SITES; GENERAL PROVISIONS

1. The authority citation for part 3830 is revised to read as follows:

Authority: 18 U.S.C. 1001, 3571; 30 U.S.C. 22 et seq., 242, 611; 31 U.S.C. 9701; 43 U.S.C. 2, 1201, 1212, 1457, 1474, 1701 et seq.; 44 U.S.C. 3501 et seq.; 115 Stat. 414; 125 Stat. 786.

Subpart E—Failure To Comply With These Regulations

2. Amend § 3830.91 by revising paragraph (c)(1) to read as follows:

§ 3830.91 What happens if I fail to comply with these regulations?

* * * * *

(c) * * *

(1) All reclamation and performance requirements imposed by subparts 3715, 3802, 3809, or 3814 of this chapter; and

* * * * *

3. Revise § 3830.92 to read as follows:

§ 3830.92 What special provisions apply to oil placer mining claims?

(a) Under 30 U.S.C. 188(f), you, as an oil placer mining claimant, may seek to convert an oil placer mining claim to a noncompetitive oil and gas lease under section 17(e) of the Mineral Leasing Act (30 U.S.C. 226(e)), if:

(1) The BLM declared your oil placer mining claim abandoned and void under section 314 of FLPMA;

(2) Your failure to comply with section 314 of FLPMA was inadvertent, justifiable, or not due to lack of reasonable diligence;

(3) You or your predecessors in interest validly located the unpatented oil placer mining claim before February 24, 1920;

(4) The claim has been or is currently producing or is capable of producing oil or gas; and

(5) You have submitted a petition asking the BLM to issue a noncompetitive oil and gas lease. Your petition must include the required rental and royalty payments, including back rental and royalty accruing from the statutory date of abandonment of the oil placer mining claim.

(b) If the BLM chooses to issue a noncompetitive oil and gas lease, the lease will be effective from the statutory date the claim was deemed conclusively abandoned. See 43 CFR 3108.2-4 Conversion of unpatented oil placer mining claims: Class III reinstatements.

4. Revise § 3830.93 to read as follows:

§ 3830.93 When are defects curable?

(a) If there is a defect in your compliance with a statutory requirement, the defect is incurable if the statute does not give the Secretary authority to permit exceptions (see § 3830.91(a) and (b) of this chapter). If your payment, recording, or filing has incurable defects, the affected mining claims or sites are statutorily forfeited.

(b) If there is a defect in your compliance with a regulatory, but not statutory, requirement, the defect is curable. You may correct curable defects when the BLM gives you notice. If you fail to cure the defect within the time the BLM allows, you will forfeit your mining claims or sites. Failure to pay the required fees with your documents will result in your document not being accepted for filing, and the failure to pay such fees is not a curable defect. See 43 CFR 3000.10(b).

5. Revise § 3830.94 to read as follows:

§ 3830.94 How may I cure a defect in my compliance with these regulations?

(a)(1) When the BLM determines that you have filed any document that is defective or you are not in compliance with a regulatory requirement, the BLM will attempt to notify you by certified mail, return receipt requested at the address you gave on:

(i) Your notice or certificate of location;

(ii) An address correction you have filed with the BLM; or

(iii) A valid transfer document filed with the BLM.

(2) The notice provided for in paragraph (a)(1) of this section constitutes legal service even if you do not actually receive the notice or decision. See § 1810.2 of this chapter.

(b) If you have timely filed any defective document other than a defective small miner fee waiver request, or you are not in compliance with a regulatory requirement, you must cure the defects or noncompliance within 30 days of receiving the BLM's notification of the defects.

(c) If you have timely filed a defective small miner fee waiver request, you must cure the defects or pay the annual maintenance fee within 60 days of receiving notification of the defects from the BLM. Failure to timely file a small miner fee waiver request without timely paying the annual maintenance fee is not a curable defect and will result in your claim or site being declared forfeited for failure to pay the fee. See 43 CFR 3835.92(a).

(d) If you fail to file a notice of intent to hold under 43 CFR 3835.31(c)(2), (3), and (4), you must file your notice of intent within 30 days of receiving the BLM's notification of the failure to file.

(e) If the BLM does not receive the requested information in the time allowed, or if the matter is statutorily not curable, you will receive a final decision from the BLM that you forfeited the affected mining claims or sites.

6. Revise § 3830.95 to read as follows:

§ 3830.95 What if I pay only part of the processing, location, and maintenance fees for the recording of new mining claims or sites?

If the BLM receives your location documents for recording and determines that the funds you paid are not sufficient to cover the total amount of processing, location, and maintenance fees for your mining claims or sites, the BLM will process the funds you paid in the following manner:

(a)(1) The BLM will not record any mining claim or site that is not accompanied by the full processing, location, and maintenance fees.

(2) For mining claims or sites located before September 1 and timely recorded after September 1, you must also pay the annual maintenance fee at the time of recording for the assessment year in which you record, unless you qualify for and file a small miner waiver for that assessment year in accordance with § 3835.14(a)(2).

(b) The BLM will assign a serial number to each claim or site that is received with the full processing, location, and maintenance fee until the funds run out;

(c) If the full processing, location, and maintenance fees are not received, the BLM will reject the recordation of the claims and the location documents will be returned unrecorded, and the remaining fees not used for recording will be refunded.

(d) Resubmission of returned location documents. (1) If the 90-day recording period has not expired, you may refile returned location documents for recording with the proper fees. The refiled location documents with fees must be received by the BLM before the end of the 90-day recording period.

(2) If the 90-day recording period has expired, the affected mining claims and sites are forfeited.

7. Revise § 3830.96 to read as follows:

§ 3830.96 What if I pay insufficient processing fees or annual maintenance fees for previously recorded mining claims or sites?

(a) If your payment only covers one mining claim and you pay only part of the processing fee or only part of the annual maintenance fee, then the BLM will not accept your filing.

(b) If your payment covers multiple mining claims or sites and you pay only part of the processing fees due for any document filings or only part of the annual maintenance fees for previously recorded mining claims or sites, or any combination of these fees, absent other instructions from you, the BLM will apply the partial payment in serial number order until the money runs out. Any underpayment of fees remaining following the expiration of the notice under § 3834.23 is not subject to the partial payment process described in this paragraph.

(c) If your partial payment for multiple mining claims is submitted in a year in which the BLM adjusts the maintenance fees under § 3834.21, the BLM will apply the partial payment in the amount based on the fee in effect immediately before the adjustment was made to each mining claim or site in serial number order until the money runs out. The BLM will then follow the procedures described in § 3834.23 with respect to each mining claim or site for which the BLM received the full amount of the fee in effect immediately before the adjustment was made. Any underpayment of fees remaining following the expiration of the notice under § 3834.23 is not subject to the partial payment process described in this paragraph.

(d) For any claims or sites for which there are no funds in your partial payment to pay the annual maintenance fee, you will forfeit the mining claims or sites not covered by your partial payment unless you pay the additional funds necessary to complete the full payment on or before September 1.

(e) If the BLM rejects your FLPMA document because you have not included sufficient funds to pay the processing fee, you will forfeit the mining claims or sites not covered by your partial payment unless you pay the additional funds necessary to complete the full payment on or before the date that the document must be filed.

8. Revise § 3830.97 to read as follows:

§ 3830.97 What if I pay only part of the processing fees for a notice of intent to locate mining claims or tunnel sites on Stock Raising Homestead Act lands?

For notices of intent to locate (NOITL) mining claims or tunnel sites under the Stock Raising Homestead Act (SRHA), the BLM will not accept a NOITL unless you pay the full processing fee as required in 43 CFR 3830.21. If your NOITL is received with insufficient funds, the BLM will return the NOITL to you unrecorded. See subparts 3831, 3838, and 3839 of this chapter for information regarding the Stock Raising Homestead Act and NOITLs.

[FR Doc. 2025-16753 Filed 8-29-25; 8:45 am]

BILLING CODE 4331-29-P